DEPARTMENT OF COMMERCE

National Oceanic and Atmospheric Administration

50 CFR Part 679

RIN 0648-AV62

Fisheries of the Exclusive Economic Zone Off Alaska; Groundfish, Crab, Salmon, and Scallop Fisheries of the Bering Sea and Aleutian Islands Management Area

AGENCY: National Marine Fisheries Service (NMFS), National Oceanic and Atmospheric Administration (NOAA), Commerce.

ACTION: Availability of amendments to fishery management plans; request for comments.

SUMMARY: The North Pacific Fishery Management Council (Council) has submitted Amendment 88 to the Fishery Management Plan (FMP) for Groundfish of the Bering Sea and Aleutian Islands Management Area, Amendment 23 to the FMP for Bering Sea/Aleutian Islands King and Tanner Crabs, Amendment 12 to the FMP for the Scallop Fishery Off Alaska, and Amendment 9 to the FMP for Salmon Fisheries in the Exclusive Economic Zone Off the Coast of Alaska. These amendments, if approved, would revise the boundaries of the Aleutian Islands Habitat Conservation Area (AIHCA) described in each FMP. This action is necessary to ensure the boundaries of the AIHCA accurately reflect the Council's intent to prohibit nonpelagic trawling in those areas with minimal or no fishing and sensitive habitat, and to allow nonpelagic trawling in areas historically fished by this gear type. This action is intended to promote the goals and objectives of the Magnuson-Stevens Fishery Conservation and Management Act (Magnuson-Stevens Act), the FMPs, and other applicable laws. Comments from the public are welcome.

DATES: Comments on the amendments must be received by close of business on January 14, 2008.

ADDRESSES: You may submit comments, identified by 0648-AV62, by any one of the following methods:

• Electronic Submissions: Submit all electronic public comments via the Federal

eRulemaking Portal http://www.regulations.gov;

• Mail: Sue Salveson, Assistant Regional Administrator, Sustainable Fisheries Division, Alaska Region, NMFS, P.O. Box 21668, Juneau, AK 99802; Attn: Ellen Sebastian, Records Officer;

• Hand delivery: 709 West 9th Street, Room 420A, Juneau, AK; or

• Fax: 907-586-7557, Attention: Sue Salveson.

Instructions: All comments received are a part of the public record and will generally be posted to http://www.regulations.gov without change. All Personal Identifying Information (for example, name, address, etc.) voluntarily submitted by the commenter may be publicly accessible. Do not submit Confidential Business Information or otherwise sensitive or protected information. NMFS will accept anonymous comments. Attachments to electronic comments will be accepted in Microsoft Word, Excel, WordPerfect, or Adobe PDF file formats only.

Copies of FMP amendments, maps of the AIHCA and proposed revisions, and the Environmental Assessment/Regulatory Impact Review/Initial Regulatory Flexibility Analysis (EA/RIR/IRFA) for this action may be obtained from the same address or from the Alaska Region NMFS website at http://www.fakr.noaa.gov.

FOR FURTHER INFORMATION CONTACT: Melanie Brown, 907-586-7228 or melanie.brown@noaa.gov.

SUPPLEMENTARY INFORMATION: The Magnuson-Stevens Act requires that the Council submit any FMP amendment it prepares to NMFS for review and approval, disapproval, or partial approval. The Magnuson-Stevens Act also requires that NMFS, upon receiving an FMP amendment, immediately publish a notice in the Federal Register that the amendment is available for public review and comment.

If approved by NMFS, these amendments would revise the FMPs by revising the boundaries of the AIHCA. The AIHCA consists of the entire Aleutian Islands subarea except for specified areas that have supported the highest groundfish catches in the past. The AIHCA is closed to all nonpelagic trawling to protect relatively undisturbed habitats. The Council determined that the AIHCA would provide a balance between continued fishing in the Aleutian Islands subarea and protection of sensitive habitats such as cold-water corals.

After implementation of the AIHCA (71 FR 36694, June 28, 2006), the Council received information from the fishing industry that two locations in the AIHCA should be adjusted. The Council recommended adjustments to the boundaries near Agattu Island and Buldir Island. Waters near Agattu Island were historically fished by nonpelagic trawl gear, and no evidence of sensitive habitat exists for this area. This area currently is closed to nonpelagic trawling under the AIHCA and is proposed to be opened under this action. Waters open to nonpelagic trawling near Buldir Island were identified as not extensively fished. These waters also contain sensitive coral and sponge habitat. This proposed action would close waters near Buldir Island to protect coral and sponge habitat from the potential effects of nonpelagic trawling. This proposed action would ensure the boundaries of the AIHCA are consistent with the Council's intent to protect sensitive habitat from the potential effects of nonpelagic trawling and allow fishing in areas historically fished.

NMFS is soliciting public comments on the proposed amendments through January 14, 2008. A proposed rule that would implement the amendments will be published in the Federal Register for public comment at a later date, following NMFS' evaluation under the Magnuson-Stevens Act procedures. Public comments on the proposed rule must be received by the end of the comment period on the amendments in order to be considered in the approval/disapproval decision on the amendments. All comments received on the amendments by the end of the comment period, whether specifically directed to the amendments or to the proposed rule, will be considered in the approval/disapproval decision. Comments received after that date will not be considered in the approval/disapproval decision on the amendments. To be considered, comments must be received—not just postmarked or otherwise transmitted—by close of business on the last day of the comment period.

Authority: 16 U.S.C. 1801 et seq.

Dated: November 6, 2007.
Emily H. Menashes,
Acting Director, Office of Sustainable Fisheries, National Marine Fisheries Service.

[FR Doc. E7-22107 Filed 11-9-07; 8:45 am]

BILLING CODE 3510-22-S